DEPARTMENT OF TRANSPORTATION

Federal Aviation Administration

RTCA, Inc; Government Industry Free Flight Steering Committee

Pursuant to section 10(a)(2) of the Federal Advisory Committee Act (Pub. L. 92-463, 5 U.S.C., Appendix 2), notice is hereby given for an RTCA Government/Industry Free Flight Steering Committee meeting to be held April 2-6, 2001, starting at 9 a.m. The meeting will be held at EUROCONTROL, Rue de la Fusee, 96, B-1130, Brussels, Belgium.

The agenda will include: April 2: Plenary Session: (1) Welcome and Introductory Remarks; (2) Review Agenda; (3) Review Previous Meeting Minutes; (4) Presentations; (5) Sub-group (Terrain and Obstacle Databases); (a) Review Previous Meeting Minutes; (b) Review Action of Previous Meeting; (c) Presentation; (d) Review Draft Document; April 3: (6) Continue Sub-group 2 (Terrain and Obstacle Databases); April 4: (7) Sub-group 3 (Airport Databases); (e) Review Previous Meeting Minutes; (f) Review Action of Previous Meeting; (g) Presentations; (h) Review Draft Document; April 5: (8) Continue Sub-group 3 (Airport Databases); April 6: Closing Plenary Session: (9) Review Summary of SG-2 (Terrain and Obstacles) and 3 (Airport Databases); (10) Assign Task; (11) Other Business; (12) Date and Location of Next Meeting; (13) Closing.

Attendance is open to the interested public but limited to space availability. With the approval of the co-chairmen, members of the public may present oral statements at the meeting. Persons wishing to present statements or obtain information should contact the RTCA, Inc., at (202) 833-9339 (phone), (202) 833-9434 (facsimile).

Issued in Washington, DC on March 8, 2001.
Jane P. Caldwell,
Designated Official.

[FR Doc. 01-6506 Filed 3-15-01; 8:45 am]

BILLING CODE 4910-13-M